FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 26, 2013.

A. Federal Reserve Bank of Dallas (E. Ann Worthy, Vice President) 2200 North Pearl Street, Dallas, Texas 75201-2272:

1. David C. Hernandez, as proposed trustee of the R.L.H. 2011 SGB Trust, and the general partner of Southwest Banking Partners, L.P., all of Dallas, Texas; to acquire voting shares of Strategic Growth Bank, Inc., and indirectly acquire voting shares of Capital Bank, SSB, both in El Paso, Texas; Bank of the Rio Grande, Las Cruces, New Mexico; Mile High Banks, Longmont, Colorado; and First National Bank of Santa Fe, Santa Fe, New Mexico.

Board of Governors of the Federal Reserve System, July 8, 2013.
Michael J. Lewandowski,
Associate Secretary of the Board.

[FR Doc. 2013-16669 Filed 7-11-13; 8:45 am]

BILLING CODE 6210-01-P